DEPARTMENT OF THE INTERIOR

Fish and Wildlife Service

[FWS-R4-R-2010-N189; 40136-1265-0000-S3]

Piedmont National Wildlife Refuge, Jones and Jasper Counties, GA; Final Comprehensive Conservation Plan and Finding of No Significant Impact for Environmental Assessment

AGENCY: Fish and Wildlife Service, Interior.

ACTION: Notice of availability.

SUMMARY: We, the Fish and Wildlife Service (Service), announce the availability of our final comprehensive conservation plan (CCP) and finding of no significant impact (FONSI) for the environmental assessment for Piedmont National Wildlife Refuge (NWR). In the final CCP, we describe how we will manage this refuge for the next 15 years.

ADDRESSES: You may obtain a copy of the CCP by writing to: Ms. Carolyn Johnson, Piedmont NWR, 718 Juliette Road, Round Oak, GA 31038. The CCP may also be accessed and downloaded from the Service's Web site: http://southeast.fws.gov/planning/ under “Final Documents.”

FOR FURTHER INFORMATION CONTACT: Ms. Carolyn Johnson; telephone: 478/986-5441.

SUPPLEMENTARY INFORMATION:

Introduction

With this notice, we finalize the CCP process for Piedmont NWR. We started this process through a notice in the Federal Register on April 4, 2008 (73 FR 18552).

Piedmont NWR was established in 1939 through an Executive Order of President Franklin D. Roosevelt. Other establishing authorities included the Migratory Bird Conservation Act, Bankhead-Jones Farm Tenant Act, and the Refuge Administration Act. The refuge was established as a “combination wildlife and game-management demonstration area” to demonstrate that wildlife could be restored on worn out, eroded lands. The refuge is primarily forested and provides habitat for the endangered red-cockaded woodpecker and associated wildlife species of concern. Prescribed burning and timber thinning are used to ensure that quality pine habitat is maintained for red-cockaded woodpeckers, neotropical migratory songbirds, and other native wildlife. Hardwood stands provide excellent habitat for neotropical migratory songbirds, turkeys, squirrels, and other woodland wildlife.

Compatibility determinations for hunting; fishing; environmental education and interpretation; wildlife observation and photography; boating; camping (associated with big game hunts, scouts, and other youth organizations only); firewood cutting; forest management; off-road vehicles (confined to wheelchair for mobility only); research; training; and walking, jogging, and bicycling are available in the CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 30-day public review and comment period via a Federal Register on May 13, 2010 (75 FR 26979). We received 16 comments on the Draft CCP/EA.

Selected Alternative

The Draft CCP/EA identified and evaluated four alternatives for managing the refuge. After considering the comments we received and based on the professional judgment of the planning team, we selected Alternative B for implementation.

Under Alternative B, we will place emphasis on restoring and improving resources needed for wildlife and habitat management and providing enhanced and compatible wildlife-dependent public use opportunities. We will continue to monitor and manage the red-cockaded woodpecker population, with a goal of an annual increase in population of 3 to 5 percent.

We will increase wildlife surveys to include breeding birds, bald eagles, furbearers, resident birds, raptors, reptiles and amphibians. We will initiate basic inventories for fish species and invertebrates, including dragonflies, crayfish, and mussels. We will continue to collect quail, turkey, and deer data through managed hunts and surveys, and reinstate turkey brood counts. We will increase efforts to maintain a deer population of 30 to 35 deer per-square-mile, with a balanced sex ratio.

We will expand habitat management by modifying forest management strategies to benefit wildlife and habitat diversity. We will continue to maintain current fire management programs but intensify management of a 5,000-acre Piedmont savanna focus area, with smaller burn units on a 2-year rotation. We will prioritize the need for removal of invasive plants and animals and enhance wildlife openings and roadsides for early successional habitat diversity. For aquatic species, we will continue to implement Georgia's Best Management Practices for Forestry, but will also survey streams to identify species. We will continue to manage the impoundments as demonstration areas for waterfowl and implement a water management program to enhance habitat and wildlife diversity.

We will revise the current visitor services plan and update signs, brochures, exhibits, and Web sites. Kiosks and an automated phone system will be added. Opportunities for wildlife observation, wildlife photography, environmental education and interpretation, and outreach will be expanded. We will continue to maintain and where possible expand hunting and fishing opportunities. We will maintain our current law enforcement program and, in addition, revise the law enforcement plan and reinstate the law enforcement outreach program. We will document additional historic sites and update current GIS data to provide for better resource protection. We will evaluate the potential of expanding the refuge acquisition boundary to meet our goals and objectives in accordance with current Service policy. We will seek partnerships to monitor the impacts of climate change on refuge resources and adapt management as needed to conserve the native wildlife and habitats.

Additional staff will be required to accomplish the goals of the CCP and support both Piedmont and Bond Swamp NWRs. This will include reinstating an assistant forester and an interpretive park ranger and adding the following: Biologist, forestry technician, park ranger (law enforcement), refuge operations specialist, prescribed fire/fuels technician, engineering equipment operator, and two seasonal forestry technicians (firefighters). We will continue to promote partnerships and work with adjacent private landowners to support our goals and objectives. We will expand our volunteer program to include more resident interns.

Authority

This notice is published under the authority of the National Wildlife Refuge System Improvement Act of 1997, Public Law 105-57.

Dated: September 22, 2010.
Mark J. Musaus,
Acting Regional Director.

Editorial Note: This document was received in the Office of the Federal Register on March 7, 2011.

[FR Doc. 2011-5450 Filed 3-9-11; 8:45 am]

BILLING CODE 4310-55-P